NATIONAL SCIENCE FOUNDATION

Notice of Intent To Seek Approval to Renew an Information Collection

AGENCY: National Science Foundation.

ACTION: Notice and request for comments.

SUMMARY: The National Science Foundation (NSF) is announcing plans to request approval to renew the Hispanic-Serving Institutions (HSI) Certification Form. In accordance with the requirements of the Paperwork Reduction Act of 1995, we are providing opportunity for public comment on this action. After obtaining and considering public comment, NSF will prepare the submission requesting that OMB approve clearance of this collection for no longer than 3 years.

DATES: Written comments on this notice must be received by June 7, 2021 to be assured of consideration. Comments received after that date will be considered to the extent practicable.

FOR FURTHER INFORMATION CONTACT: Suzanne H. Plimpton, Reports Clearance Officer, National Science Foundation, 2415 Eisenhower Avenue, Room W 18000, Alexandria, Virginia 22314; or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Title of Collection: Hispanic-Serving Institutions (HSI) Certification Form.

OMB Approval Number: 3145-0247.

Expiration Date of Current Approval: July 31, 2021.

Type of Request: Intent to renew an information collection.

Abstract: To enhance the quality of undergraduate STEM education at Hispanic-serving institutions (HSIs), the National Science Foundation (NSF) established the Improving Undergraduate STEM Education: Hispanic-Serving Institutions (HSI Program), in response to the Consolidated Appropriations Act, 2017 (Public Law 115-31) and the American Innovation and Competitiveness Act (Public Law 114-329). The lead institution submitting a proposal to the HSI Program must be an HSI as defined by law in section 502 of the Higher Education Act of 1965 (20 U.S.C. 1101a) (http://legcounsel.house.gov/Comps/HEA65_CMD.pdf). Hence there is a need for institutions to self-certify via an HSI Certification Form.

The HSI Program includes a specific track that provides a funding opportunity for institutions that are new to NSF[5] or are Primarily Undergraduate Institutions (PUIs [6]), including community colleges. PUIs are “accredited colleges and universities (including two-year community colleges) that award Associates degrees, Bachelor's degrees, and/or Master's degrees in NSF-supported fields, but have awarded 20 or fewer Ph.D./D.Sci. degrees in all NSF-supported fields during the combined previous two academic years.” PUI definition obtained from https://www.nsf.gov/funding/pgm_summ.jsp?pims_id=5518. Hence there is a need for institutions to provide a self-certification of PUI eligibility for this track. The following language is used:

Certification of PUI Eligibility. A Certification of PUI Eligibility, following the format below and executed by an Authorized Organizational Representative, must be included in PUI requests (Planning or Pilot Projects (PPP) only). A current, signed Certification, included on institutional letterhead, should be scanned and included as a PDF file.

Certification of PUI Eligibility

By submission of this proposal, the institution hereby certifies that the originating and managing institution is an accredited college or university that awards Associates degrees, Bachelor's degrees, and/or Master's degrees in NSF-supported fields, but has awarded 20 or fewer Ph.D./D.Sci. degrees in all NSF-supported fields during the combined previous two academic years.

Authorized Organizational Representative

Typed Name and Title

Signature

Date

Expected Respondents: Hispanic-Serving Institutions.

Estimate of Burden: We anticipate 175 proposals for 2 minutes which is approximately 6 hours.

Dated: March 26, 2021.
Suzanne H. Plimpton,
Reports Clearance Officer, National Science Foundation.

[FR Doc. 2021-07087 Filed 4-5-21; 8:45 am]

BILLING CODE 7555-01-P